DEPARTMENT OF ENERGY

Federal Energy Regulatory Commission

[Docket Nos. EC12-145-000; ER12-2681-000; EL12-107-000]

ITC Holdings Corp.; Entergy Corporation; Midwest Independent Transmission System Operator, Inc.; Notice of Filing

Take notice that, on November 20, 2012, ITC Holdings Corp. and Entergy Services, Inc. (together, Applicants) submitted a filing styled as an answer in the above-referenced proceedings attaching a series of confidential workpapers and additional background information relating to Applicants' joint application that was filed in the above-referenced proceedings on September 24, 2012 under sections 203 and 205 of the Federal Power Act. (See Joint Application for Authorization of Acquisition and Disposition of Jurisdictional Transmission Facilities, Approval of Transmission Service Formula Rate and Certain Jurisdictional Agreements, and Petition for Declaratory Order on Application of Section 305(a) of the Federal Power Act, Docket Nos. EC12-145-000, ER12-2681-000, and EL12-107-000). Applicants' filing is hereby noticed as an amendment to the application.

Any person desiring to intervene or to protest this filing must file in accordance with Rules 211 and 214 of the Commission's Rules of Practice and Procedure (18 CFR 385.211, 385.214). Protests will be considered by the Commission in determining the appropriate action to be taken, but will not serve to make protestants parties to these proceedings. Any person wishing to become a party must file a notice of intervention or motion to intervene, as appropriate. Such notices, motions, or protests must be filed on or before the comment date. Anyone filing a motion to intervene or protest must serve a copy of that document on Applicants and all of the parties in these proceedings.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: January 22, 2013.

Dated: November 30, 2012.
Nathaniel J. Davis, Sr.,
Deputy Secretary.

[FR Doc. 2012-29465 Filed 12-5-12; 8:45 am]

BILLING CODE 6717-01-P